DEPARTMENT OF DEFENSE

Department of the Army, Corps of Engineers

Intent To Prepare an Environmental Impact Statement for the Proposed Westbrook Project, Corps Permit Application Number SPK-2005-00938

AGENCY: Department of the Army, U.S. Army Corps of Engineers, DOD.

ACTION: Notice of intent.

SUMMARY: The U.S. Army Corps of Engineers, Sacramento District, (Corps) received a Department of the Army permit application from Westpark S.V. 400, LLC (Applicant) to fill approximately 9.6 acres of waters of the United States to construct the proposed Westbrook Project in Placer County, CA, in June 2011. The Corps, as the lead agency responsible for compliance with the National Environmental Policy Act (NEPA), determined that the proposed project may result in significant impacts to the environment, and that the preparation of an Environmental Impact Statement (EIS) is required.

The Applicant proposes to implement a moderate scale, mixed-use, mixed-density master planned community. The Westbrook Project, as proposed, would include a mixture of land uses, including new residential neighborhoods, elementary school, parks and several neighborhood serving retail centers. The Westbrook Project would involve approximately 146 acres of low-density residential, 84 acres of medium-density residential, 28 acres of high-density residential and 43 acres of commercial land uses. Other proposed land uses include a 10-acre elementary school site, approximately 16 acres for three neighborhood parks, and approximately 37 acres of open space for the preservation of natural resources areas.

The proposed project site is approximately 400 acres and contains approximately 13 acres of waters of the United States. The project, as proposed, would result in direct impacts to approximately 9.6 acres of waters of the United States. These acreages do not include indirect impacts from the proposed action or impacts anticipated to result from offsite infrastructure that may be determined to be required as part of the project through the Environmental Impact Statement (EIS) process.

ADDRESSES: To submit comments on this notice or for questions about the proposed action and the Draft EIS, please contact James T. Robb, 1325 J Street, Room 1350, Sacramento, CA 95814. Please refer to Identification Number SPK-2005-00938 in any correspondence.

FOR FURTHER INFORMATION CONTACT: Mr. James T. Robb, (916) 557-7610, email: DLL-CESPK-RD-EIS-Comments@usace.army.mil.

SUPPLEMENTARY INFORMATION: Interested parties are invited to submit written comments on the permit application on or before September 3, 2012. Scoping comments should be submitted within the next 45 days, but may be submitted at any time prior to publication of the Draft EIS.

The USACE will evaluate alternatives including the no action alternative, the proposed action alternative, and other on-site and off-site alternatives. The proposed project and the alternatives to its proposed size, design, and location will be developed through the EIS process.

The proposed project would result in direct impacts to approximately 9.6 acres of waters of the United States and would avoid approximately 2.9 acres of these waters of the United States. Waters of the U.S. on-site include two intermittent streams, seasonal wetlands, wetland swales, and vernal pools.

The proposed site for the Westbrook community is in unincorporated Placer County, CA, immediately west of the City of Roseville's existing city limits. The proposed project site is approximately 6 miles west of Interstate 80 and State Route 65, 10 miles northeast of the City of Sacramento, 10 miles east of State Route 99, 5 miles west of downtown Roseville, and 4 miles east of the Sutter County line. The proposed project site is bordered on the west by Fiddyment Road and is approximately 1.2 miles north of Baseline Road. The property to the north was previously authorized for development under permit SPK-2002-00666 (Westpark/Fiddyment Ranch) or is under review in the case of Creekview (SPK-2006-00650). The property to the south, directly adjacent to Baseline Road, is currently under review (Sierra Vista Specific Plan, SPK-2006-01050 and Placer Vineyards, SPK-1999-00737). The proposed project site was once a part of the Sierra Vista Specific Plan area, but the landowners at the time withdrew their application for a Section 404 permit and the area was dropped from analysis under the Sierra Vista EIS in 2008. A new permit application was received for the proposed Westbrook project on June 9, 2011.

The Corps' public involvement program includes several opportunities to provide oral and written comments on the Westbrook project through the EIS drafting process. Affected federal, state, and local agencies, Indian tribes, and other interested private organizations and parties are invited to participate. Significant issues to be analyzed in depth in the EIS include impacts to waters of the United States, including vernal pools and other wetlands; agricultural resources; cultural resources; threatened and endangered species; transportation; air quality; surface water and groundwater; hydrology and water quality; socioeconomic effects; and aesthetics.

The applicant reports that the project area supports suitable habitat for certain federally-listed branchiopods, including the threatened vernal pool fairy shrimp (Branchinecta lynchi) and endangered Conservancy fairy shrimp (Branchinecta conservatio) and vernal pool tadpole shrimp (Lepidurus packardi). The suitable habitat for branchiopods within the project area includes vernal pools and depressional seasonal wetlands (including depressional areas within wetland swales).

The Applicant reports that there are historic properties within the Westbrook project area. The Corps will review this information, determine eligibility and initiate the appropriate state and tribal consultations as required under Section 106 of the NHPA as outlined in the Corps' Interim Guidance to 33 CFR part 325 Appendix C.

It is anticipated that the Draft EIS will be made available to the public between November 2012 and May 2013.

Dated: July 11, 2012.
William J. Leady,
Colonel, U.S. Army, District Engineer.

[FR Doc. 2012-18130 Filed 7-24-12; 8:45 am]

BILLING CODE 3720-58-P